DEPARTMENT OF HEALTH AND HUMAN SERVICES

Office of Community Services

[Program Announcement No. ACF-OCS-07-08-2003]

Compassion Capital Fund Targeted Capacity-Building Program

AGENCY: The Office of Community Services (OCS), Administration for Children and Families (ACF), Department of Health and Human Services (HHS).

ACTION: Announcement of the request for competitive applications and the availability of Federal funding to increase the capacity of faith-based and community organizations with a proven track record in serving the needs of at-risk youth or the homeless.

CFDA Number: The Catalog of Federal Domestic Assistance Number is 93.647.

SUMMARY: The program announced here will provide Compassion Capital Fund (CCF) awards to build the capacity of faith-based and community organizations, especially partnerships and coalitions, that address the needs of at-risk youth or the homeless. Awards will assist these organizations to improve their program effectiveness and sustainability, access funds from diverse sources, and emulate model programs and best practices.

To be eligible for these one-time, $50,000 CCF capacity-building awards, applicants must have a proven track record of at least one year in serving the needs of at-risk youth or the homeless.

The Administration for Children and Families (ACF) issues awards under the Fund. The Compassion Capital Fund will help further the President's goals and objectives regarding faith-based and community organizations and will enhance work being supported by multiple Federal agencies. ACF estimates that the funds available under this announcement will support approximately 50 grants.

DATES: The closing date for submission of applications is August 11, 2003. Applications received after the closing date will be classified as late. See Part IV of this announcement for more information on submitting applications.

In order to determine the number of expert reviewers that will be necessary, if you plan to submit an application, you are asked, but not required, to mail, fax, or e-mail written notification of your intentions at least 15 calendar days prior to the submission deadline date. Send the notification, with the following information: the name, address, telephone and fax numbers, and e-mail address of the project director and the name of the applicant to: OCS Operations Center, 1815 North Fort Myer Drive, Suite 300, Arlington, Virginia 22209 or fax to (703) 248-8765 or e-mail to OCS@lcgnet.com. Label this submission as follows: Intent to Apply for Compassion Capital Fund Targeted Capacity-Building Program.

ADDRESSES: Mailed applications should be sent to OCS Operations Center, 1815 North Fort Myer Drive, Suite 300, Arlington, Virginia 22209 and labeled as follows: Application for Compassion Capital Fund Targeted Capacity-Building Program.

Hand delivered, courier or overnight delivery applications are accepted during the normal working hours of 8 a.m. to 4:30 p.m., Monday through Friday (excluding Federal holidays), on or prior to the established closing date. All packages should be clearly labeled as follows: Application for Compassion Capital Fund Targeted Capacity-Building Program. The address for these applications is: OCS Operations Center, 1815 North Fort Myer Drive, Suite 300, Arlington, Virginia 22209.

The printed Federal Register notice is the only official program announcement. Any corrections to this announcement will be published in the Federal Register as well as published on the ACF World Wide Web Pages. The Web site is http://www.acf.dhhs.gov/programs/opre/frpa.htm.

Although reasonable efforts are taken to assure that the files on the ACF World Wide Web Pages containing electronic copies of this Program Announcement are accurate and complete, they are provided for information only. The applicant bears sole responsibility to assure that the copy downloaded and/or printed from any other source is accurate and complete.

FOR FURTHER INFORMATION CONTACT: LCG OCS Operations Center, 1-800-281-9519; e-mail: OCS@lcgnet.com. ACF intends to post answers to frequently asked questions on the ACF Web site at http://www.acf.dhhs.gov/programs/ocs. Required application forms are available at: http://www.acf.dhhs.gov/programs/ofs/forms.htm.

SUPPLEMENTARY INFORMATION: This program announcement consists of four parts: Part I: Background and Program Purpose—legislative authority, background, applicable legal rules, and program purpose and objectives; Part II: Project and Applicant Eligibility—eligible applicants, funding availability and instruments; Part III: The Review Process—intergovernmental review, initial ACF screening, general instructions for the Uniform Project Description, competitive review and evaluation criteria, and review process; and Part IV: The Application Process—required forms, application limits, checklist for complete application, application submission, and Paperwork Reduction Act.

Part I. Background and Program Purpose

A. Legislative Authority

Funding under this announcement is authorized by section 1110 of the Social Security Act governing Social Services Research and Demonstration activities and the Departments of Labor, Health and Human Services, and Education, and Related Agencies Appropriations Act, 2003, Pub. L. 108-7.

B. Background

Faith-based and community organizations have a long history of providing an array of important services to people and communities in need of charitable services in the United States. These groups have unique strengths that government cannot duplicate. They often operate very close to the daily lives of individuals and families in need and, thus, can reach needy individuals and families that government cannot reach. They hold the trust of their community neighbors and leaders and have great understanding of the needs of the community and its systems. As a result, they are well positioned to understand the needs of individuals and families, particularly those struggling with homelessness and at-risk youth. Furthermore, the sense of mission from which these organizations work often translates into a unique approach to service delivery, a dedication of service to others, and a cultural awareness specific to their surrounding communities.

In recognition of this history and ability, President Bush believes it is in the public's interest to broaden Federal efforts to work with faith-based and community organizations, and he has made it a priority to ensure that these groups are treated on an equal footing with other organizations that apply for Federal funding. A key part of the effort to enhance and expand the participation of faith-based and community groups in serving those in need is the Compassion Capital Fund Capacity Building program described in this announcement.

Organizations will use these one-time grants to improve their capacity to provide services in a sustainable way. ACF believes that organizations working together—rather than in isolation—are best positioned to address their community's problems. Therefore, ACF will give a preference to applications submitted by an organization that is a member of a partnership or coalition of faith-based and/or community organizations that are working together to address the needs of at-risk youth or the homeless. This preference will be extended to those partnerships or coalitions consisting of three or more faith-based and/or community organizations located in the same geographic region that have worked together for at least one year before applying for CCF funding.

CCF Capacity-Building awards will enable grantees to improve program effectiveness and organizational management in diverse ways. The goal is to help promising organizations to bolster their sustainability and ultimately be able to serve more people on a continuing basis. Applicants must describe, in concrete terms, their plans for using funds to improve their organization in a sustainable way. Grantees should use these awards to increase efficiency and capacity; these awards cannot be used to augment or supplant direct service delivery funds. For example, an organization that distributes food to the poor will not receive a grant simply to purchase additional food. Nor, for example, will an organization that provides substance abuse treatment services receive additional funds simply to enable it to provide exactly the same services to more people. Although these awards might well enable these organizations to assist additional individuals, they would not serve to improve the organizations' sustainability, efficiency, or capacity. Rather, the organizations would simply use additional funds in the same way that it used existing funds, without fundamentally changing or improving its services. The program described in this announcement is part of this year's CCF program. ACF expects to award approximately 50 grants totaling $2.5 million.

C. Legal Rules That Apply to Faith-Based Organizations That Receive Government Funds

CCF Capacity-Building monies shall not be used to support inherently religious practices such as religious instruction, worship, or proselytization. Grant recipients therefore, may not and will not be defined by reference to religion. Neutral criteria that neither favor nor disfavor religion must be employed in the selection of grant recipients. For further information concerning the legal rules that apply when faith-based organizations receive government funds please visit Guidance to Faith-based and Community Organizations on Partnering with the Federal Government at http://www.fbci.gov.

D. Program Purpose and Objectives

The purpose of the Compassion Capital Fund Targeted Capacity-Building Program is to increase the capacity of faith-based and community organizations with a proven track record of serving the needs of at-risk youth or the homeless. This will be accomplished by funding experienced faith-based and community organizations, especially partnerships and coalitions of faith and community groups that work collaboratively to address the needs of at-risk youth or the homeless. Preferences will be given to applications submitted by partnerships or coalitions of faith-based and community-level organizations. This will be accomplished by the award of 5 points as described in Part III.D, item (2).

Part II. Project and Applicant Eligibility

The Administration for Children and Families (ACF), Department of Health and Human Services (HHS) invites eligible entities to submit competing applications for the Compassion Capital Fund Targeted Capacity-Building Program.

A. Eligible Applicants

ACF invites applications from private, non-profit, faith-based and community organizations, particularly partnerships or coalitions, with a proven track record in serving the needs of at-risk youth or the homeless. Applicants are required to submit proof of non-profit status with the application. Applications lacking proof of non-profit status will not be reviewed. Eligible organizations must have been established for at least one year and addressing the needs of the homeless or at-risk youth in the proposed geographic area. Coalitions of eligible organizations must have been in existence for at least one year. In the case of partnerships or coalitions that do not have a separate governing structure, one member must serve as lead organization for the purposes of the grant award.

Private, nonprofit organizations are encouraged to submit with their applications the optional survey located under “Grant Manuals & Forms” at www.acf.hhs.gov/programs/ofs/forms.htm.

B. Funding Availability and Instruments

Instrument and Funding: ACF will issue the Financial Assistance Awards under this announcement as grants. ACF expects to award a total of up to $2.5 million under this announcement. There is no matching or cost share requirement for this announcement. ACF reserves the right to award less than the funds described, in the absence of worthy applications, or under such circumstances as may be deemed to be in the best interest of the government. ACF estimates that 50 organizations or coalitions can be supported by this level of funding. Applicants must apply for a one-time funding of up to $50,000. Any application requesting in excess of $50,000 will be considered “non-responsive” and subsequently returned to the applicant without further review.

Project and Budget Period: This announcement is soliciting applications for a 12-month project period. Awards, on a competitive basis, will be for a 12-month budget period.

Part III: The Review Process

A. Intergovernmental Review

This program is covered under Executive Order 12372, “Intergovernmental Review of Federal Programs,” and 45 CFR part 100, “Intergovernmental Review of Department of Health and Human Services Programs and Activities.” Under the Order, states may design their own processes for reviewing and commenting on proposed applications for Federal assistance under covered programs.

As of April 8, 2003, the jurisdictions listed below have elected not to participate in the Executive Order process. Applicants from these jurisdictions or for projects administered by Federally recognized Indian Tribes need not take action in regard to Executive Order 12372. Although the jurisdictions listed below no longer participate in the process, grant applicants are still eligible to apply for a grant even if a state, territory, commonwealth, etc. does not have a Single Point of Contact (SPOC).

Alabama; Alaska; Arizona; Colorado; Connecticut; Kansas; Hawaii; Idaho; Indiana; Louisiana; Massachusetts; Minnesota; Montana; Nebraska; New Jersey; New York; Ohio; Oklahoma; Oregon; Palau; Pennsylvania; South Dakota; Tennessee; Vermont; Virginia; Washington and Wyoming.

All remaining jurisdictions participate in the Executive Order process and have established SPOCs. Applicants from participating jurisdictions should contact their SPOCs as soon as possible to alert them about the prospective applications and receive instructions. The applicant must submit all required materials, if any, to the SPOC and indicate the date of the submittal (or the date of contact if no submittal is required) on the Standard Form 424, item 16a. Under 45 CFR 100.8(a)(2), a SPOC has 60 days from the application deadline to comment on proposed new or competing continuation awards. Applicants must submit any required material to the SPOCs as soon as possible so that the Federal program office can obtain and review SPOC comments as part of the award process. A listing of the SPOC for each participating state and territory with contact and address information is available at: http://www.whitehouse.gov/omb/grants/spoc.html.

B. Initial ACF Screening

Each application submitted under this program announcement will undergo a pre-review to determine that (1) the application was received by the closing date and submitted in accordance with the instructions in this announcement and (2) the applicant is eligible for funding.

C. General Instructions for the Uniform Project Description

The following ACF Uniform Project Description has been approved under OMB Control Number 0970-0139, which expires 12/31/2003. This format is to be used to submit an application under this announcement. Consistent with the Uniform Program Description format, the specific evaluation criteria applicable to this program follows in section D.

1. Objectives and need for assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

2. Results or benefits expected: Identify the results and benefits to be derived. For example, when applying for an award to expand program capacity; increase the types of services offered; increase access to funding from different sources and sectors; improve staff capabilities, describe the goals and objectives of the activity and expected outcomes.

3. Approach: Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement. Describe the reasons why the applicant believes its services would benefit through the award of a Compassion Capital Fund Targeted Capacity-Building Grant. Describe past experience working to address the needs of the homeless and/or at-risk youth.

Provide quantitative monthly or quarterly projections of the accomplishments to be achieved for each function or activity in, for example, such terms as the average number of days of technical assistance to be provided, the number of faith-based and/or community organizations to be provided services, or number of sub-awards to be issued to faith-or community organizations. When accomplishments cannot be quantified by activity or function, list them in chronological order to show the schedule of accomplishments and their target dates.

If any data is to be collected, maintained, and/or disseminated, clearance may be required from the U.S. Office of Management and Budget (OMB). This clearance pertains to any “collection of information that is conducted or sponsored by HHS.” List organizations, cooperating entities, consultants, or other key individuals who will work on the project along with a short description of the nature of their effort or contribution.

4. Geographic location: Describe the precise location of the project and boundaries of the area to be served by the proposed project. Maps or other graphic aids may be attached.

5. Staff and position data: Provide a biographical sketch for each key person appointed and a job description for each vacant key position. A biographical sketch will also be required for new key staff as appointed.

6. Budget and budget justification: Provide line item detail and detailed calculations for each budget object class identified on the Budget Information form. Detailed calculations must include estimation methods, quantities, unit costs, and other similar quantitative detail sufficient for the calculation to be duplicated. The detailed budget must also include a breakout by the funding sources identified in Block 15 of the SF 424.

General

The following guidelines are for preparing the budget and budget justification. Both Federal and non-Federal resources must be detailed and justified in the budget and narrative justification. For purposes of preparing the budget and budget justification, “Federal resources” should refer only to the HHS grant for which you are applying. For these purposes, “Non-federal resources” are all other resources. If other Federal resources will be used, they should be included under Non-Federal for budget display purposes. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the person's title, time commitment to the project (in months), time commitment to the project (as a percentage or full-time equivalent), annual salary, amount of salary derived from the grant, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend HHS sponsored workshops should be detailed in the budget.

Equipment

Description: ”Equipment” means an article of tangible, non-expendable, personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the equipment category.

Justification: Specify general categories of supplies and their costs. Show computations and provide other information that supports the amount requested.

Contractual

Description: Costs of all contracts for services and goods except for those that belong under other categories such as equipment, supplies, construction, etc. Third-party evaluation contracts (if applicable) and contracts with secondary recipient organizations, including delegate agencies and specific project(s) or businesses to be financed by the applicant, should be included under this category.

Justification: All procurement transactions must be conducted in a manner to provide, to the maximum extent practical, open and free competition. Recipients, other than States that are required to use Part 92 procedures, must justify any anticipated procurement action that is expected to be awarded without competition and exceed the simplified acquisition threshold fixed at 41 U.S.C. 403(11) (currently set at $100,000). Recipients might be required to make available to HHS pre-award review and procurement documents, such as requests for proposals or invitations for bids, independent cost estimates, etc.

Note: Whenever the applicant intends to delegate part of the project to another agency, the applicant must provide a detailed budget and budget narrative for each delegate agency, by agency title, along with the required supporting information referred to in these instructions.

Construction

N/A.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency. Applicants without an approved indirect cost rate may charge related costs as direct costs.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF424.

Justification: The firm commitment of these resources must be documented and submitted with the application in order to be given credit in the review process. A detailed budget must be prepared for each funding source.

Note: In the SF 424A, Section B, Budget Categories, list in column 2 non-federal resources separately from federal resources, which must be listed in column 1.

D. Competitive Review and Evaluation Criteria

Applications that have been determined to be eligible for funding through the initial ACF pre-review screening will be evaluated and rated by independent review panels on the basis of specific evaluation criteria. The evaluation criteria are designed to assess the quality of the proposed project and to determine the likelihood of its success. The evaluation criteria are closely related and are considered as a whole in judging the overall quality of an application. Points are awarded only to applications that are responsive to the evaluation criteria within the context of this program announcement.

There is a five-page limit for the application narrative, and a seven-page limit for the budget narrative with all supporting documents including letters of support and proof of non-profit status. Applications that exceed these limits will not be reviewed. Applicants should be concise and provide only the information requested and needed. Applicants should take care to ensure that budgets are clear and easy to understand.

Supplemental information (e.g., brochures, reports) not required in this announcement will not be reviewed. More information about application submission is provided under Part IV, below.

Proposed projects will be reviewed based upon the extent to which applicants address the following evaluation criteria:

Objectives and Need for Assistance (25 points)

• The applicant should describe a compelling need in the community for an increase or improvement in services for at-risk youth or the homeless. (15 points)

• The applicant should describe how the receipt of this Federal grant will enable the applicant to increase its capacity to address this vital need. (10 points)

(2) Approach (25 points)

• The applicant should summarize its history and achievements to date with regard to at-risk youth or the homeless. (10 points)

• The applicant should describe the strategy it has employed to serve the vital need in the community and fully explain in concrete terms, the key improvements that would be made if the applicant received this Federal grant. (10 points)

• Preference will be extended to partnerships or coalitions of three or more faith-based and/or community organizations located in the same geographic region that have worked together for at least one year addressing the needs of at-risk youth or the homeless. In the case of partnerships or coalitions, the application should describe the individual achievements of collaborating members in related efforts. (5 points)

(3) Results or Benefits Expected (15 points)

• The applicant should describe the benefits to be achieved through receipt of this grant and how they will be sustainable. In that regard, the applicant should also provide a list of reasonable and measurable outcomes that will support the stated goals under this announcement.

(4) Staff and Position Data (10 points)

• The application should include a list of key staff that will oversee use of the grant funds and a brief description of their duties.

(5) Geographic Location (15 points)

• The applicant should describe the precise location to be served. This location should be limited to one community or locality, and should not be national or regional in scope. (10 points)

• The applicant should provide demographic data of the proposed location in support of the proposal. (5 points)

(6) Budget and Budget Justification (10 points)

• The applicant must include a budget that is clear, easy to understand, and that provides detailed justification for the amount requested.

(Applicants should refer to the budget information presented in the Standard Forms 424 and 424A and to the budget justification instructions in section C. General Instructions for the Uniform Project Description. Since non-Federal reviewers will be used in the review of applications, applicants may omit from the copies of the application submitted (not from the original), the specific salary rates or amounts for individuals in the application budget and instead provide only summary information.)

E. The Review Process

Applications received by the due date will be reviewed and scored competitively. Experts in the field, generally persons from outside the Federal Government, will use the evaluation criteria listed in Part III of this announcement to review and score the applications. The results of this review are a primary factor in making funding decisions. ACF may also solicit comments from Regional Office staff and other Federal agencies. In order to ensure that the interests of the Federal Government are met in making the final selections, in addition to the review criteria identified above, ACF may consider a variety of factors including geographic diversity/coverage, distribution among those serving at-risk youth or the homeless and types of applicant organizations. Further, ACF may limit the number of awards made to the same or affiliated organizations although they would serve different geographic areas. In this way, ACF may increase opportunities for supporting the efforts of faith-based and community organizations to address the needs of at-risk youth and the homeless.

Please note that applicants that do not comply with the requirements in the section on “Eligible Applicants” will not be included in the review process.

Part IV. The Application Process

A. Required Forms

Eligible applicants interested in applying for funds must submit a complete application including the required forms listed under the “Checklist for complete application” in Part IV of this announcement. All necessary forms are available at: http://www.acf.dhhs.gov/programs/ofs/forms.htm.

In order to be considered for a grant under this announcement, an application must be submitted on the Standard Form 424 approved by the Office of Management and Budget under Control Number 0348-0043. Each application must be signed by an individual authorized to act for the applicant and to assume responsibility for the obligations imposed by the terms and conditions of the grant award. Applicants requesting financial assistance for non-construction projects must file the Standard Form 424B, Assurances: Non-Construction Programs (approved by the Office of Management and Budget under control number 0348-0040). Applicants must sign and return the Standard Form 424B with their application.

Applicants must provide a certification concerning lobbying.

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Any non-profit organization submitting an application must submit proof of its non-profit status at the time of submission. The non-profit agency can accomplish this by providing a copy of the applicant's listing in the Internal Revenue Service's (IRS) most recent list of tax-exempt organizations described in Section 501(c)(3) of the IRS code, or by providing a copy of the articles of incorporation bearing the seal of the State in which the corporation or association is domiciled, or by providing a certified copy of the organization's certificate of incorporation or similar document that clearly establishes non-profit status, or any of the items above for a State or national parent organization and a statement signed by the parent organization that the applicant organization is a local non-profit affiliate. Private, nonprofit organizations are encouraged to submit with their applications the optional survey located under “Grants Manuals & Forms” at http://www.acf.hhs.gov/programs/ofs/forms.htm.

Applicants will be notified of receipt of their application via postcard.

B. Application Limits

Each application should include one signed original and two additional copies of the following:

The application should be double-spaced and single-sided on 8½ x 11 plain white paper, with 1″ margins on all sides. Use only a standard size font no smaller than 12 pitch throughout the application. All pages of the application (including appendices, resumes, charts, references/ footnotes, tables, maps and exhibits) must be sequentially numbered, beginning on the first page after the budget justification, the principal investigator contact information and the Table of Contents. There is a five-page limit for the application narrative, and a seven-page limit for the budget narrative with all supporting documents, including letters of support, and proof of non-profit status. Pages submitted beyond these page limits will not be reviewed. Applicants are requested not to send pamphlets, brochures, or other printed material along with their applications as these pose copying difficulties. These materials, if submitted, will not be included in the review process. In addition, applicants must not submit any additional letters of endorsement beyond any that may be required.

C. Checklist for a Complete Application

The checklist below is for your use to ensure that the application package has been properly prepared.

—One original, signed and dated application plus two copies.

—Attachments/Appendices, when included, should be used only to provide supporting documentation such as resumes, and letters of agreement/support.

(1) Application for Federal Assistance (SF-424, Rev. 7-97).

(2) Budget information-non-construction programs (SF424A&B).

(3) Budget Justification, including subcontract agency budgets.

(4) Application Narrative and Appendices.

(5) Assurances Non-Construction Program.

(6) Certification Regarding Lobbying.

(7) Certification regarding Compliance with the Drug-Free Workplace Act.

(8) Certification regarding non-debarment, suspension, or ineligibility.

(9) If appropriate, a completed SPOC certification with the date of SPOC contact entered in line 16, page 1 of the SF-424, Rev. 7-97.

(10) Proof of non-profit status.

D. Application Submission

Deadline. The closing (deadline) time and date for receipt of applications is 4:30 p.m. (Eastern Time Zone) on the date indicated under closing time and date at the beginning of this announcement. Applications received after 4:30 p.m. will be classified as late.

Mailed applications shall be considered as meeting an announced deadline if they are received on or before the deadline time and date at the: OCS Operations Center, 1815 North Fort Myer Drive, Suite 300, Arlington, Virginia 22209 and labeled: Application for Compassion Capital Fund Coalition Program. Applicants are responsible for mailing applications well in advance, when using all mail services, to ensure that the applications are received on or before the deadline time and date.

Applications hand carried by applicants, applicant couriers, or other representatives of the applicant or by overnight/express mail couriers shall be considered as meeting an announced deadline if they are received on or before the deadline date, between the hours of 8 a.m. and 4:30 p.m. at: OCS Operations Center, 1815 North Fort Myer Drive, Suite 300, Arlington, Virginia 22209 and labeled: Application for Compassion Capital Fund Coalition Program. Applicants are cautioned that express/overnight mail services may not always deliver as agreed.

ACF cannot accommodate transmission of applications by fax or through other electronic media. Therefore, applications transmitted to ACF or the OCS Operations Center electronically will not be accepted regardless of date or time of submission and time of receipt.

Late applications. Applications that do not meet the criteria above are considered late applications. ACF shall notify each late applicant that its application will not be considered in the current competition.

Extension of deadlines. ACF may extend an application deadline for applicants affected by acts of God such as floods and hurricanes, when there is widespread disruption of the mail service, or for other disruptions of services, such as a prolonged blackout, that affect the public at large. A determination to waive or extend deadline requirements rest with ACF's Chief Grants Management Officer.

E. Paperwork Reduction Act of 1995 (Public Law 104-23)

Under the Paperwork Reduction Act of 1995, Public Law 104-13 the Department is required to submit to OMB for review and approval any reporting and record keeping requirements in regulations including program announcements. All information collections within this program announcement are approved under the following current valid OMB control numbers 0348-0043, 0348-0044, 034800040, 0348-0046, 0925-0418 and 0970-0139.

Public reporting burden for this collection is estimated to average 10 hours per response, including the time for reviewing instructions, gathering and maintaining the data needed and reviewing the collection of information.

An agency may not conduct or sponsor and a person is not required to respond to, a collection of information unless it displays a currently valid OMB control number.

Wade F. Horn,
Assistant Secretary for Children and Families.

[FR Doc. 03-17412 Filed 7-9-03; 8:45 am]

BILLING CODE 4184-01-P